DEPARTMENT OF THE INTERIOR

U.S. Geological Survey

[GX16GG00995TR00]

Announcement of Scientific Earthquake Studies Advisory Committee Meeting

AGENCY: U.S. Geological Survey, Department of the Interior.

ACTION: Notice of meeting.

SUMMARY: Pursuant to Public Law 106-503, the Scientific Earthquake Studies Advisory Committee (SESAC) advises the Director of the U.S. Geological Survey (USGS) on matters relating to the USGS's participation in the National Earthquake Hazards Reduction Program. The Committee, which is comprised of members from academia, industry, and State government, will hold its next meeting by teleconference on January 5, 2017, as specified below. In this meeting, the Committee will review the current activities of the USGS Earthquake Hazards Program and discuss future priorities.

DATES: The meeting will be held from 2:00 p.m. to 6:00 p.m. (EST) on January 5, 2017. All persons interested in joining the meeting must notify Linda Huey (lhuey@usgs.gov, tel. 703-648-6712) by 5:00 p.m. EST on January 3, 2017, to obtain the information necessary to join the teleconference.

FOR FURTHER INFORMATION CONTACT: Dr. William Leith, U.S. Geological Survey, MS 905, 12201 Sunrise Valley Drive, Reston, Virginia 20192, (703) 648-6712, wleith@usgs.gov.

SUPPLEMENTARY INFORMATION: Meetings of the Scientific Earthquake Studies Advisory Committee are open to the public.

William Leith,
Senior Science Advisor for Earthquake and Geologic Hazards.

[FR Doc. 2016-29556 Filed 12-8-16; 8:45 am]

BILLING CODE 4338-11-P